DEPARTMENT OF TRANSPORTATION

Federal Railroad Administration

[Docket Number FRA-2017-0127]

Petition for Waiver of Compliance

Under Part 211 of Title 49 Code of Federal Regulations (CFR), this provides the public notice that on December 7, 2017, Dakota, Missouri Valley & Western Railroad, Inc. (DMVW), petitioned the Federal Railroad Administration (FRA) for a waiver of compliance from certain provisions of the Federal railroad safety regulations contained at 49 CFR part 229. FRA assigned the petition Docket Number FRA-2017-0127.

Specifically, DMVW seeks a waiver of compliance from a portion of 49 CFR 229.47, Emergency brake valve, for five SD50 locomotive units (Numbers 5408, 5418, 5439, 5451, and 5454) and three SD60 locomotive units (Numbers 5500, 5501, and 5544). The five SD50 units were purchased from Canadian National Railway (CN) on December 4, 2008, and the three SD60 units were also purchased from CN on September 15, 2017. Upon purchase of the three SD60 units, DMVW discovered that CN had a previous waiver of compliance from 49 CFR 229.47 for these units.

The eight units now owned and operated by DMVW are all of the same car body type and all are not equipped with the rear conductor brake valve. Each of the units have rear walkways and switch style steps, thus allowing the engineer to see the person riding on the back along with radio communication. These units will be used in road service and will always be paired together. DMVW has been operating the SD50 units for almost 10 years and have not had any incident or reason to need the rear brake valve. DMVW believes that 49 CFR 229.47 pertains to covered car body units with no rear walkway or switch style steps. Therefore, DMVW is requesting a waiver from the requirement that an emergency brake pipe valve be installed adjacent to the rear door for these eight units.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 15, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-01581 Filed 1-26-18; 8:45 am]

BILLING CODE 4910-06-P